DEPARTMENT OF JUSTICE

National Institute of Corrections

Solicitation for a Cooperative Agreement—Transition From Jail to the Community (TJC)

AGENCY: National Institute of Corrections, Department of Justice.

ACTION: Solicitation for a Cooperative Agreement.

SUMMARY: The Department of Justice (DOJ), National Institute of Corrections (NIC) announces the availability of funds in FY 2007 for a cooperative agreement to initiate the project “Transition From Jail to the Community” (TJC). A cooperative agreement is a form of assistance relationship where NIC is substantially involved during the performance of the award. An award will be made to an organization who will, in concert with NIC, identify the method and approach in developing a jail/community transition program.

An 18-month cooperative agreement award will be made to an organization that will help NIC design a jail/community transition model that will enhance the likelihood that persons released from jails do not commit crimes following release. Ultimately, the transition model will be implemented in a limited number of localities, the impact will be evaluated and knowledge will be shared broadly about what has been learned through focused assistance to those jurisdictions. During the initial award, the model will be developed, and two jurisdictions will be selected to begin testing it before expanding assistance (phase II) to include approximately four additional jurisdictions. Depending on the successful applicant's work plan, it is anticipated that phase II work will begin as a late task during this initial award or as an early task in what, future funding permitting, will be a subsequent implementation award to the same or different cooperative agreement awardee. No local jurisdictions have been identified as participants. NIC will make participant selections with the awardee at an appropriate point in the approved work plan. NIC views this effort as a comprehensive system change effort that could reasonably take jurisdictions at least two years to implement.

DATES: The application must be received by 4 p.m. on Thursday, February 1, 2007.

ADDRESSES: Mailed applications must be sent to: Director, National Institute of Corrections, 320 First Street, NW., Room 5007, Washington, DC 20534. Applicants are encouraged to use Federal Express, UPS, or similar service to ensure delivery by the due date as U.S. Mail at NIC is still being delayed due to recent events.

Hand delivered applications should be brought to 500 First Street, NW., Washington, DC 20534. At the front desk, call (202) 307-3106, extension 0 for pickup.

Faxed or e-mailed applications will not be accepted.

FOR FURTHER INFORMATION CONTACT: A copy of this announcement and the required application forms can be downloaded from the NIC Web page at http://www.nicic.org. Hard copies of the announcement can be obtained by calling Rita Rippetoe at 1-800-995-6423 x 44222 or e-mail rrippetoe@bop.gov.

All technical or programmatic questions concerning this announcement should be directed to Kermit Humphries, Correctional Program Specialist, National Institute of Corrections. He can be reached by calling 800-995-6423 extension 40118 or by e-mail at khumphries@bop.gov.

SUPPLEMENTARY INFORMATION: Overview: Jail populations are comprised of accused, convicted but unsentenced, and sentenced individuals, including holds for agencies like parole/probation, immigration and so on. It is a population of individuals who often also appear on the roles of other agencies providing services for mental health, substance abuse, homelessness, unemployment, social services and a variety of medical and public health concerns. And upon release it is extremely likely that they will remain in the community where the jail is located. Therefore, it is in the community's interest that needs and challenges presented by individuals in jail be addressed effectively, and that ultimate “ownership” of their behavior rests not just with the jail but with the community and its agencies in general.

Transition or reentry is not an issue that can or should be addressed exclusively by jail administrators. Safety and security of staff and confined individuals always must be paramount responsibilities for jail administrators. But partnering with resources and expertise from outside the institutions dramatically increases opportunities for success once individuals are released. Some communities include pre-trial diversion and/or release as important components of their transition/reentry strategies. Effective transition relies on collaboration with public human services agencies and non-profit and faith organizations. It also relies on assessment of risk and need and evidence-based practices to guide targeted case planning, Examples of jail/community partnerships are evident around the country. This NIC initiative recognizes that our resources permit direct assistance to only a very few jurisdictions and that indeed many jails in the country are not currently in a position to apply in any event. Therefore, products from this initiative will be developed to share what is learned with other jails/communities for their future consideration and use.

Background: NIC has been funding a Transition from Prison to the Community (TPC) initiative since FY 2000. Recognizing that most persons in custody will be released in a relatively brief time, and most are “clients” of both corrections and other publicaly funded agencies/providers, corrections and human service functions are working jointly to better prepare offenders and communities for the inevitable release from confinement. “Reentry” and “transition” are the two terms commonly used to describe the numerous activities and programs. Most of the funding has been directed toward state prisoner populations, but there is a growing awareness that transition principles and benefits apply equally to local jails and the communities they serve, and that in some ways it is likely that improved offender outcomes are more readily achievable at the local level. Successful reentry is paramount to improving the safety of our communities and breaking the cycle of recidivism. Collaboration between jails and the myriad of community-based services related to health, mental health, job skills development, transportation, identification, housing, faith communities, and employment are crucial to achieving system change at the community level. Five sets of information are available as background material for potential applicants:

• TPC has a growing set of information and knowledge that should inform the jail/community initiative.

• A selected practitioner group was brought together (April 18-19, 2006) to provide feedback for NIC's use in further developing our jail/community concept and approach. The person who documented the practitioner meeting also summarized the Urban Institute Roundtable (last bullet in this section) using a consistent format.

• NIC Correctional Specialist Jim Barbee has prepared a document called: “Jail Transition—Contextual Information”.

• Gender responsive programming requires special attention. Two documents concerning women offenders are identified.

• In June 2006 the Urban Institute conducted a Jail Reentry Roundtable. The meeting summary and commissioned papers are available.

All background material cited above may be accessed at http://community.nicic.org/blogs/nic/archive/2006/12/13/TJC.aspx. Those requiring hard copies of the documents may contact the NIC Information Center at 1-800-877-1461 and request that copies be mailed.

There are at least two primary views regarding the jail's role in transition:

• Jail focused reaching out to community resources—This perspective focuses on a time frame beginning at admission to the jail and may reach out for community agencies/interests to be involved in the work the jail is doing.

• Community focused with Jail as the primary resource—This perspective focuses on community responses to persons in jail and is intended to minimize their future negative impact on the community. This perspective places the jail as the primary agency of local system operations, but sees it as but one of the community resources along with detox, diversion, mental health, housing, active involvement in post-release * * * and so on. It acknowledges the jail as the center (and perhaps leader) of most reentry activities, but aggressively involves legitimate collaborative partners along the continuum defined by a given community—which might begin before booking into the jail. It might be said that the jail is first among equals with its community partners. Conceptually, the inmate resides in the jail but “belongs” to the community.

This NIC initiative is primarily driven by the second approach, but recognizes that complexity of jail populations and functions often requires different approaches for distinct groups. The applications need to address likely differences and approaches and how they would be addressed in the development of the TJC model.

Purpose: Public safety through reduced crimes committed following release from jail is the primary value that drives this work. This initiative is to establish through organizational policy and procedure a model approach for transitioning individuals from jail back into their communities. The model will bring together jail and community leaders with human service providers, faith based programs, criminal justice decisionmakers and practitioners, elected officials and other interested parties for joint development of policies and procedures affecting the custody, release, and supervision of individuals targeted for this transition initiative.

Scope of Work and Specific Requirements: Goals of the TJC include (1) Improved public safety by reducing the threat of harm to persons and property by released offenders in communities to which they return and (2) increased success rates of offenders who transition from jails into the community by fostering (a) Effective treatment programming that reduces offender's risk of violating laws upon release, (b) accountability for both offender and system officials, and (c) community and victim involvement. Appropriate use of dynamic assessment of risk and needs must be a critical component of the model, as well as a commitment to ongoing use of evidence based principles for behavior change.

It is expected that the primary Transition from Jail to the Community (TJC) components will include:

1. Build the TJC Model: The cooperative agreement provider will offer expertise, facilitation, documentation and staff/consultant support activities to develop the TJC model, identifying likely differences in approaching the various categories of jailed individuals and implications for developing a model approach. A primary initial task must include use of practitioners and experts in the development of the model. The types of individuals and process for selecting them must be included in the application.

2. Implement the TJC Model: The scope of work will include testing the model in two selected sites before adding four more jurisdictions.

3. Conduct Evaluation: A key component will be evaluation to determine the impact of TJC activities on impacted jails/communities.

4. Develop Products to Share Learnings: Recognizing that NIC can only provide direct assistance to a very small portion of all the jails/communities, the applicant must develop outreach tools like a TJC Implementation Manual for Jails and Local Communities, a NIC Learning Center TJP module, monographs and articles.

Depending on proposed work plans, it is likely that at least part of the above items 2-4 will be products of future awards, funding permitted. However, the application should discuss and propose a general strategy for addressing all four components and propose a specific work plan for this initial 18-month award. Key TJC challenges and issues for this initiative include:

• Assessment tools

• Evidence based practices

• Individualized case management planning

• Jail based programs and strategies

• Community based programs and strategies

• Coordination and cooperation between jails and public/private human services agencies/groups

• TJC challenges:

○ From jail administrator's perspective

○ From perspectives of other governmental human services agencies

○ From not for profit, NGO's and other community agency perspectives

• Local political implications for TJC

• Local/State implications for TJC

• Information system processes and needs

Additional jail/community transition issues may be identified by the applicant. The applicant must prioritize and address at minimum five challenges/issues. Explain the criteria used for prioritizing your challenges/issues. Also, the applicant must describe why each challenge/issue is important, propose strategies for successfully addressing each challenge/issue and propose how the impact of each challenge/issue will be measured.

Application Requirements: Applications must be submitted using OMB Standard Form 424, Federal Assistance and attachments. (Copies can be downloaded from the NIC Web page at http://www.nicic.org. The applications should be concisely written, typed double spaced and referenced to the project by the “NIC Application Number” and Title referenced in this announcement.

Submit an original and five copies. The original should have the applicant's signature in blue ink. A cover letter must identify the responsible audit agency for the applicant's financial accounts.

Authority: Public Law 93-415.

Funds Available: The award will be limited to a maximum of $425,000 (direct and indirect costs). Funds may only be used for the activities that are linked to the desired outcome of the project. No funds are transferred to State or local governments. Supplemental awards are a possibility based upon satisfactory performance of the awardee and based upon the availability of funding in future years.

This project will be a collaborative venture with the NIC Administration Division.

Eligibility of Applicants: An eligible applicant is any State or general unit of local government, private agency, educational institution, organization, individual or team with expertise in the described areas.

Review Considerations: Applications received under this announcement will be subjected to a 3 to 5 person NIC Peer Review Process.

Number of Awards: One.

NIC Application Number: 07TI01. This number should appear as a reference line in the cover letter, in box 11 of Standard Form 424, and outside of the envelope in which the application is sent.

Catalog of Federal Domestic Assistance Number 16.603.

Executive Order 12372: This program is subject to the provisions of Executive Order 12372. E.O. 12372 allows states the option of setting up a system for reviewing applications from within their States for assistance under certain Federal programs. Applicants (other than Federally-recognized Indian tribal governments) should contact their State Single Point of Contact (SPOC), a list of which can be found at http://www.whitehouse.gov/omb/grants/spoc.html.

NIC expects this award to be signed by March 15, 2007.

Larry B. Solomon,
Deputy Director, National Institute of Corrections.

[FR Doc. E6-21978 Filed 12-21-06; 8:45 am]

BILLING CODE 4410-36-P